DEPARTMENT OF EDUCATION

National Assessment Governing Board; Meeting

AGENCY: National Assessment Governing Board; Education.

ACTION: Notice of public forum.

SUMMARY: The National Assessment Governing Board is announcing a public forum on May 1, 2003 to obtain comment on the draft Background Information Framework for the National Assessment of Educational Progress. Public and private parties and organizations are invited to present written and/or oral testimony. The forum will be held at the Washington Court Hotel, 525 New Jersey Avenue NW., Washington, DC from 9 a.m. to 1 p.m.

Background

The framework, subject to approval by the Governing Board, presents a plan to guide the collection and reporting of the noncognitive or background information needed for the fair and accurate presentation of student achievement data, as measured in the surveys of the National Assessment of Educational Progress (NAEP).

The framework will define the purpose and scope of NAEP's non-cognitive questionnaires and describe other sources of background data that NAEP may collect. It will establish criteria for reporting background question results and also create a system for asking various groups of questions to various samples of students at various times.

Under Public Law 107-110, the Governing Board has final authority over all cognitive and non-cognitive questions on the National Assessment. The background information is obtained from student, teacher, and school questionnaires, as well as from school records and other reliable data sources.

The draft framework is available on the Web site of the Governing Board at http://www.nagb.org. Other related material on the Governing Board and the National Assessment may be found at this Web site and at http://www.nces.ed.gov/nationsreportcard.

The Board is seeking comment from teachers, education researchers, state and local school administrators, assessment specialists, parents of children in elementary and secondary schools, and interested members of the public. Members of the NAGB Ad Hoc Committee on NAEP Background Questions, chaired by John H. Stevens, will conduct the forum to receive testimony and to ask clarifying questions and respond to presentations. Oral presentations should not exceed ten minutes. Testimony will become part of the public record.

All views will be considered by the Ad Hoc Committee in developing its recommendations to the Governing Board and by the full Board when it takes final action on the Background Information Framework, which is anticipated at its meeting of August 1-2, 2003.

To register to present oral testimony on May 1, 2003 at the Washington Court Hotel, please call Tessa Regis, of the NAGB staff, at 202-357-7500 by Tuesday, April 29. Written testimony should be sent by mail, fax or e-mail for receipt in the Board office by May 1. Written materials received by noon on April 30 will be duplicated for distribution at the forum.

Testimony should be sent to: National Assessment Governing Board, 800 North Capitol Street, NW., Suite 825, Washington, DC 20002, Attn: Lawrence Feinberg, FAX: (202) 357-6945, E-mail: larry.feinberg@ed.gov.

For further information, please contact Lawrence Feinberg at (202) 357-6942.

This document is intended to notify the general public of their opportunity to attend. Individuals who will need accommodations for a disability in order to attend the meeting (i.e., interpreting services, assistive listening devices, materials in alternative format) should notify Munira Mwalimu at 202-357-6938 or at Munira.Mwalimu@ed.gov no later than April 25, 2003. We will attempt to meet requests after this date, but cannot guarantee availability of the requested accommodation. The meeting site is accessible to individuals with disabilities.

Supplementary Information: The National Assessment Governing Board is established under section 412 of the National Education Statistics Act of 1994, as amended.

The Board is established to formulate policy guidelines for the National Assessment of Educational Progress (NAEP). The Board's responsibilities include selecting subject areas to be assessed, developing assessment objectives, developing appropriate student achievement levels for each grade and subject tested, developing guidelines for reporting and disseminating results, and developing standards and procedures for interstate and national comparisons.

Summaries of the forum, which are informative to the public and consistent with the policy of section 5 U.S.C. 552b(c), will be available to the public within 14 days of the meeting. Records are kept of all Board proceedings and are available for public inspection at the U.S. Department of Education, National Assessment Governing Board, Suite #825, 800 North Capitol Street, NW., Washington, DC, from 9 a.m. to 5 p.m. Eastern Standard Time.

Dated: April 4, 2003.
Charles Smith,
Executive Director, National Assessment Governing Board.

[FR Doc. 03-8728 Filed 4-9-03; 8:45 am]

BILLING CODE 4000-01-M